DEPARTMENT OF HOMELAND SECURITY

Directorate of Information Analysis and Infrastructure Protection; National Infrastructure Advisory Council; Notice of Open Meeting

The National Infrastructure Advisory Council (NIAC) will meet on Tuesday, April 22, 2003, from 4:30 p.m. until 6:30 p.m. EDT. The meeting, which will be held telephonically, will be open to the public via a “listen only” telephone bridge line. Members of the public interested in attending by telephone should call (toll free) 1-800-304-8043 or (toll) 1-719-955-1038 and, when prompted, enter pass code 1129948.

The Council advises the President of the United States on the security of information systems for critical infrastructure supporting other sectors of the economy, including banking and finance, transportation, energy, manufacturing, and emergency government services. At this meeting, the Council will discuss potential future issues to take up for consideration and potential dates for future meetings.

Agenda:

I. Opening of Meeting and Roll Call of Members: Nancy J. Wong, Director, Office of Planning and Partnerships, U.S. Department of Homeland Security (DHS)/Designated Federal Officer, NIAC.

II. Opening Remarks: Robert P. Liscouski, Assistant Secretary of Homeland Security for Infrastructure Protection, DHS; Richard K. Davidson, Chairman, NIAC; and John T. Chambers, Vice Chairman, NIAC.

III. Introduction of Possible Topics for Future NIAC Study: Chairman Davidson.

a. Internet Protocol ver. 6: Vice Chairman Chambers.

b. Cyber Vulnerability Disclosure Guidelines: Vice Chairman Chambers and John W. Thompson, Chairman and CEO, Symantec Corporation, Member of the NIAC.

c. Other topics: NIAC Members.

IV. Discussion of Topics: NIAC Members.

V. Discussion of Possible Dates for Future Meetings: Chairman Davidson, NIAC Members.

VI. Adjournment

Written comments may be submitted at any time before or after the meeting. However, to facilitate distribution of public presentation materials to Council members, the Council suggests that presenters forward the public presentation materials ten days prior to the meeting date to the following address: Mr. Eric T. Werner, Office of Planning and Partnerships, Directorate of Information Analysis and Infrastructure Protection, U.S. Department of Homeland Security, 14th Street & Constitution Avenue, NW., Room 6073, Washington, DC 20230.

For more information contact Eric Werner on (202) 482-7470.

Dated: April 11, 2003.
Eric T. Werner,
Council Liaison Officer.

[FR Doc. 03-9368 Filed 4-11-03; 4:24 pm]

BILLING CODE 4410-10-P